COMMITTEE FOR PURCHASE FROM PEOPLE WHO ARE BLIND OR SEVERELY DISABLED

Procurement List; Proposed Additions and Deletions

AGENCY: Committee for Purchase From People Who Are Blind or Severely Disabled.

ACTION: Proposed additions to and deletions from the procurement list.

SUMMARY: The Committee is proposing to add service(s) to the Procurement List that will be furnished by nonprofit agencies employing persons who are blind or have other severe disabilities, and delete service(s) previously furnished by such agencies.

DATES: Comments must be received on or before: January 9, 2022.

ADDRESSES: Committee for Purchase From People Who Are Blind or Severely Disabled, 1401 S Clark Street, Suite 715, Arlington, Virginia 22202-4149.

FOR FURTHER INFORMATION CONTACT: For further information or to submit comments contact: Michael R. Jurkowski, Telephone: (703) 785-6404, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the service(s) listed below from nonprofit agencies employing persons who are blind or have other severe disabilities.

The following service(s) are proposed for addition to the Procurement List for production by the nonprofit agencies listed:

Service(s)

Service Type: Document Destruction

Mandatory for: DCSA, Federal Investigative Records Enterprise Operations (FIRE), Boyers, PA

Designated Source of Supply: Keystone Vocational Services Inc., Hermitage, PA

Contracting Activity: DEFENSE COUNTERINTELLIGENCE AND SECURITY SERVICE, DEFENSE CI AND SECURITY AGENCY

Service Type: Storage, Management and Fulfillment of Personal Protective Equipment Safety Stock

Mandatory for: Department of Homeland Security, Washington, DC

Mandatory for: LC Industries, Inc. in Durham, NC

Contracting Activity: Department of Homeland Security, Departmental Operations Acquisitions Division, Washington, DC

Service Type: Section 508 Compliance

Mandatory for: Defense Contract Management Agency (DCMA), DCMA Headquarters, Fort Lee, VA

Designated Source of Supply: Columbia Lighthouse for the Blind, Washington, DC

Contracting Activity: Defense Information Systems Agency (DISA)

Deletions

The following service(s) are proposed for deletion from the Procurement List:

Service(s)

Service Type: Custodial service

Mandatory for: US Department of Energy, Jamestown Service Center, Jamestown, ND, 8430 Country Club Street, Jamestown, ND

Designated Source of Supply: Alpha Opportunities, Inc., Jamestown, ND

Contracting Activity: ENERGY, DEPARTMENT OF, WESTERN-UPPPER GREAT PLAINS REGION

Michael R. Jurkowski,
Acting Director, Business Operations.

[FR Doc. 2021-26812 Filed 12-9-21; 8:45 am]

BILLING CODE 6353-01-P